NATIONAL AERONAUTICS AND SPACE ADMINISTRATION

[Notice (03-115)]

Aerospace Medicine Occupational Health Advisory Committee

AGENCY: National Aeronautics and Space Administration

ACTION: Notice of meeting.

SUMMARY: In accordance with the Federal Advisory Committee Act, Public Law 92-463, as amended, the National Aeronautics and Space Administration announces a meeting of the Aerospace Medicine Occupational Health Advisory Committee.

DATES: Wednesday, October 15, 2003, 9 a.m. to 4 p.m.

ADDRESSES: National Aeronautics and Space Administration, 300 E Street, SW., Room 9H40 (Program Review Center), Washington, DC. Attendees must check in at the Visitor's Center located in the West Lobby (4th and E Streets) and will be escorted to the conference room.

FOR FURTHER INFORMATION CONTACT: Ms. Pamela Barnes, Code AM, National Aeronautics and Space Administration, Washington, DC 20546, 202/358-2390.

SUPPLEMENTARY INFORMATION: The meeting will be open to the public up to the seating capacity of the room. The agenda for the meeting is as follows:

—Opening Remarks by Chief Health and Medical Officer

—Aerospace Medicine Occupational Health Advisory Committee Report from March 14, 2003, Meeting

—Aerospace Medicine Highlights and Issues

—Occupational Health Highlights and Issues

—Open discussion and action assignments

—Next Meeting

—Closing Comments

Attendees will be requested to sign a register and to comply with NASA security requirements, including the presentation of a valid picture ID, before receiving an access badge. Foreign nationals attending this meeting will be required to provide the following information: Full name; gender; date/place of birth; citizenship; visa/greencard information (number, type, expiration date); passport information (number, country, expiration date); employer/affiliation information (name of institution, address, country, phone); title/position of attendee. To expedite admittance, attendees can provide identifying information in advance by contacting Pamela Barnes via e-mail at pbarnes@hq.nasa.gov or by telephone at 202/358-2390. Attendees will be escorted at all times. Persons with disabilities who require assistance should indicate this in their message. Due to limited availability of seating, members of the public will be admitted on a first-come, first-serve basis. News media wishing to attend the meeting should follow standard accreditation procedures. Members of the press who have questions about these procedures should contact the NASA Headquarters newsroom (202/358-1600).

It is imperative that the meeting be held on these dates to accommodate the scheduling priorities of the key participants.

June W. Edwards,
Advisory Committee Management Officer, National Aeronautics and Space Administration.

[FR Doc. 03-24171 Filed 9-23-03; 8:45 am]

BILLING CODE 7510-01-P